DEPARTMENT OF ENERGY

Federal Energy Regulatory Commission

[Project No. 1892-030]

Great River Hydro, LLC; Notice Establishing Procedural Schedule for Licensing and Deadline for Submission of Final Amendments

Take notice that the following amended hydroelectric application has been filed with the Commission and is available for public inspection.

a. Type of Application: New Major License.

b. Project No.: 1892-030.

c. Date Material Amendments Filed: December 7, 2020.

d. Applicant: Great River Hydro, LLC (Great River Hydro).

e. Name of Project: Wilder Hydroelectric Project.

f. Location: The existing project is located on the Connecticut River in Orange and Windsor Counties, Vermont, and Grafton County, New Hampshire. There are no federal lands within the project boundary.

g. Filed Pursuant to: Federal Power Act, 16 U.S.C. 791(a)-825(r).

h. Applicant Contact: John Ragonese, FERC License Manager, Great River Hydro, LLC, 40 Pleasant Street, Suite 202, Portsmouth, NH 03801; (603) 498-2851 or jragonese@greatriverhydro.com.

i. FERC Contact: Steve Kartalia, (202) 502-6131 or stephen.kartalia@ferc.gov.

j. This application is not ready for environmental analysis at this time.

k. Great River Hydro filed an application for a new license for the Wilder Hydroelectric Project No. 1892 on May 1, 2017. In the license application, Great River Hydro stated that it could not develop a complete licensing proposal for the project since many of the required environmental studies were not complete as of May 1, 2017. Great River Hydro indicated that it would amend the license application after completing additional field work, consultation, and analyses on the required studies. Great River Hydro filed material amendments to the final license application on December 7, 2020.

l. Project Description: The existing Wilder Project consists of: (1) A 1,546-foot-long, 59-foot-high, concrete dam that includes: (a) A 400-foot-long non-overflow, earthen embankment (north embankment); (b) a 232-foot-long non-overflow, concrete bulkhead; (c) a 208-foot-long concrete forebay; (d) a 526-foot-long concrete, gravity spillway that includes: (i) Six 30-foot-high, 36-foot-long tainter gates; (ii) four 17-foot-high, 50-foot-wide stanchion flashboards; (iii) a 15-foot-high, 20-foot-long skimmer gate (north gate); and (iv) a 10-foot-high, 10-foot-long skimmer gate (south gate); and (e) a 180-foot-long non-overflow, earthen embankment (south embankment); (2) a 45-mile-long, 3,100-acre impoundment with a useable storage volume of 13,350 acre-feet between elevations 380 and 385 feet National Geodetic Vertical Datum of 1929 (NGVD 29); (3) four approximately 25-foot-high, 20-foot-wide trashracks with 5-inch clear bar spacing and one approximately 28-foot-high, 20-foot-wide trashrack with 1.625-inch clear bar spacing; (4) a 181-foot-long, 50-foot-wide, 50-foot-high steel frame, brick powerhouse containing two 16.2-megawatt (MW) adjustable-blade Kaplan turbine-generator units and one 3.2-MW vertical Francis turbine-generator unit for a total project capacity of 35.6 MW; (5) three concrete draft tubes ranging from 9.5 to 20.5 feet in diameter; (6) 13.8-kilovolt generator leads that connect the turbine-generator units to two substation transformers; (7) an approximately 580-foot-long, 6-foot-wide fishway; and (8) appurtenant facilities.

Great River Hydro operates the project in coordination with its downstream Bellows Falls Project No. 1855 and Vernon Project No. 1904 and in a peaking mode. Average annual generation is approximately 156,303 MW-hours. Great River Hydro is proposing changes to project operation that would reduce impoundment fluctuations and increase the stability of downstream flow releases relative to current project operation, including targeted water surface elevation levels and flow ramping rates. Great River Hydro proposes several protection, mitigation, and enhancement measures for aquatic, terrestrial, cultural, and recreation resources, and threatened and endangered species. The specific proposed changes are described in the amended application.

m. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-1892). At this time, the Commission has suspended access to the Commission's Public Reference Room due to the proclamation declaring a National Emergency concerning the Novel Coronavirus Disease (COVID-19) issued by the President on March 13, 2020. For assistance, contact FERC at FERCOnlineSupport@ferc.gov or call toll-free, (866) 208-3676 or (202) 502-8659 (TTY).

n. You may also register online at https://ferconline.ferc.gov/FERCOnline.aspx to be notified via email of new filings and issuances related to this or other pending projects. For assistance, contact FERC Online Support.

o. Procedural Schedule: The application will be processed according to the following preliminary Hydro Licensing Schedule. Revisions to the schedule may be made as appropriate.

Milestone | Target date
Commission issues letter identifying application deficiencies and requesting additional information | January 2021.
Notice of Acceptance/Notice of Ready for Environmental Analysis | May 2021.
Filing of recommendations, preliminary terms and conditions, and fishway prescriptions | July 2021.
Reply Comments due | August 2021.

p. Final amendments to the application must be filed with the Commission no later than 30 days from the issuance date of the notice of ready for environmental analysis.

Dated: December 16, 2020.
Kimberly D. Bose,
Secretary.

[FR Doc. 2020-28249 Filed 12-21-20; 8:45 am]

BILLING CODE 6717-01-P